DEPARMENT OF THE INTERIOR

National Park Service

Notice of Intent To Conduct Restoration Planning, Regarding Point Reyes Tarball Incident, Marin County, California, Pursuant to 15 CFR 990.44

Incident: Oiling of birds and shoreline at and near Point Reyes National Seashore, November 16, 1997—February 20, 1998.

Agencies: The natural resources trustees (Trustees) for this Incident are the United States Department of the Interior (DOI), acting through the U.S. Fish and Wildlife Service (FWS), and the National Park Service (NPS); the U.S. Department of Commerce, acting through the National Oceanic and Atmospheric Administration (NOAA); and the State of California, acting through the California Department of Fish and Game's (CDFG) Office of Spill Prevention and Response (OSPR). DOI, NOAA, and the State of California are natural resource trustees pursuant to the National Contingency Plan, 40 CFR 330.600 and 300.605 and Executive Order 12777. The CDFG is the trustee for fish, wildlife, and their habitat pursuant to California Fish and Game Code Sections 711.7 and 1802 and a delegation from the Governor. The NPS is acting as the Federal Lead Administrative Trustee (FLAT).

Summary of Facts and Authority

Between November 16, 1997 and February 20, 1998 oil, in the form of many large tarballs, and approximately 2,900 oiled seabirds washed on to the beaches of Pt. Reyes National Seashore and other beaches to the north and south (the “Incident”). State and federal agencies responded to this oil spill but a source of the oil was not identified at the time. Analyses of the oil suggested that it came from more than one vessel or other source.

After the Incident, the Trustees initiated a number of preassessment data collection activities. The data has been assembled and analyzed in a report titled, “Impacts to Natural Resources from the Point Reyes Tarball Incident, 1997-1998: Final Report of NRD Initiation”, which discusses information concerning injuries to seabirds and to other natural resources.

Pursuant to section 1006 of the Oil Pollution Act (OPA), 33 U.S.C. 2701 et seq., federal and state trustees for natural resources are authorized to assess natural resource damages resulting from oil spills into navigable waters and to develop and implement a plan for restoration of such injured resources. The Natural Resource Damage Assessment Regulations under OPA, 15 CFR part 990 (the “NRDA regulations”), provide that trustees are to prepare a Notice of Intent to Conduct Restoration Planning if they determine certain conditions have been met and if they decide to quantify the injuries to natural resources and to develop a plan to restore them.

This Notice is to announce, pursuant to § 990.44 of the NRDA regulations, that the Trustees, having collected and analyzed data, intend to proceed with restoration planning actions to address injuries to natural resources resulting from the Incident. The purpose of this restoration planning effort is to further evaluate injuries to natural resources and services and to use that information to determine the need for and type and scale of restoration actions.

Related Events

On November 23, 2001, oiled seabirds and tarballs began washing ashore primarily along the San Mateo County coastline. Chemical analyses of oiled bird feathers were conducted and compared to known oil samples in an attempt to identify the source of the oil. Analyses of oil from the feathers collected between November 25, 2001 and January 4, 2002 matched many of the historical samples taken from oiling events in the general San Francisco Bay area which had occurred in 1992-93, 1997-98 (this Incident), 1999, and February 2001, and for which a source had not previously been determined (often referred to as “mystery spills”).

Subsequent to the 2001-02 oiling event, oil samples were obtained from a sunken vessel, the S.S. Jacob Luckenbach, which had been resting in 175 feet of water off the San Mateo coast since its sinking in 1954. These Luckenbach oil samples matched many of the oil samples from the Incident and from the other mystery spills. These other mystery spills impacted similar species in the same area as the Incident. Consequently, the Trustees now consider all of these incidents to be related. While the injury assessment of these spills has been separate, the Trustees plan to prepare a single draft Restoration Plan to address the natural resource injuries from all of them.

Trustees' Determinations of Jurisdiction and to Conduct Restoration Planning

The Trustees have made the following determinations pursuant to 15 CFR 990.41 and 990.42.

1. Beginning on or about November 16, 1997, at Point Reyes National Seashore, Marin County, California, petroleum tarballs began washing ashore near Drakes Beach, Limantour Beach, Bolinas, and other beaches. These occurrences constituted an “Incident” within the meaning of 15 CFR 990.30. The Incident is also a spill or discharge as defined at California Government Code 8670.49

2. The Incident was not permitted under a permit issued under federal, state, or local law: was not from a public vessel; and was not from an offshore facility subject to the Trans-Alaska Pipeline Authority Act, 43 U.S.C. 1651 et seq.

3. Oil discharged during the Incident adversely affected marine habitats and seabirds. Consequently, natural resources under the trusteeship of the Trustees have been injured as a result of the Incident.

4. Response actions did not adequately address the injuries resulting from the Incident.

5. Feasible primary and/or compensatory restoration actions exist to address the resource injuries. The Trustees will be considering restoration projects that are feasible to implement, focusing on projects that benefit seabirds.

6. As a result of the foregoing determinations, the Trustees have concluded that there is jurisdiction to pursue restoration under the Federal Oil Pollution Act (OPA), 33 U.S.C. 2702 and 2706, and under California's Lempert-Keene-Seastrand Oil Spill Prevention and Response Act, Government Code Sections 8670.1 et seq.

Administrative Record

The Trustees have opened an Administrative Record (Record) in compliance with 15 CFR 990.45. The Record includes documents relied upon by the Trustees during the assessment performed in conjunction with the incident.

A copy of the Record is located at the Gulf of the Farallones National Marine Sanctuary, Ft. Mason, Building 201, San Francisco, CA 94123. Arrangements may be made to review it by contacting Jan Roletto at that address or by calling her at 415-561-6622.

A copy of the Record is also located at California's Department of Fish & Game's Office of Spill Prevention and Response, 1700 K Street, Suite 250, Sacramento, CA 95814. Arrangements may be made to review it by contacting Dr. Steve Hampton at that address or by calling him at 916-323-4724.

Public Involvement

Pursuant to 15 CFR 990.14(d), the Trustees seek public involvement in restoration planning for this Incident through public review of, and comment on, documents contained in the Administrative Record, as well as on a draft Restoration Plan (“RP”), when it has been prepared. The Trustees presently intend to prepare, and seek public comment on, a comprehensive draft RP which addresses the natural resource injuries resulting from this Incident, from the Luckenbach discharges, and from the other mystery spills described above.

Dated: October 2, 2003.
Michael A. Soukup,
Associate Director, Natural Resource Stewardship and Science.

[FR Doc. 04-136 Filed 1-5-04; 8:45 am]

BILLING CODE 4312-FW-P